SMALL BUSINESS ADMINISTRATION

[Declaration of Disaster #3271]

State of Minnesota (Amendment #6)

In accordance with information received from the Federal Emergency Management Agency, the above-numbered Declaration is hereby amended to extend the deadline for filing applications for physical damage as a result of this disaster for victims located in Dakota County, Minnesota to September 12, 2000.

All other information remains the same, i.e., the deadline for filing applications for physical damage for Yellow Medicine and Chippewa Counties is September 25. For all other counties the physical deadline expired on August 29. For economic injury the deadline is March 30, 2001.

(Catalog of Federal Domestic Assistance Program Nos. 59002 and 59008)
Dated: September 1, 2000.
Becky C. Brantley,
Acting Associate Administrator for Disaster Assistance.

[FR Doc. 00-23762 Filed 9-14-00; 8:45 am]

BILLING CODE 8025-01-P